ENVIRONMENTAL PROTECTION AGENCY

[ER-FRL-9045-2]

Environmental Impact Statements; Notice of Availability

Responsible Agency: Office of Federal Activities, General Information 202-564-5632 or https://www.epa.gov/nepa/.

Weekly receipt of Environmental Impact Statements

Filed 05/27/2019 Through 05/31/2019

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20190123, Draft, BLM, NV, Gemini Solar Project Resource Management Plan Amendment and Draft Environmental Impact Statement, Comment Period Ends: 09/05/2019, Contact: Herman Pinales 702-515-5155

EIS No. 20190124, Draft, USAF, CA, Draft Environmental Impact Statement/Environmental Impact Report for the Edwards AFB Solar Project, Comment Period Ends: 07/26/2019, Contact: Andrea Brewer-Anderson 661-277-4948

EIS No. 20190125, Draft, APHIS, REG, Revisions to USDA-APHIS 7 CFR part 340 Regulations Governing the Importation, Interstate Movement, and Environmental Release of Certain Genetically Engineered Organisms: Draft Programmatic Environmental Impact Statement, Comment Period Ends: 08/06/2019, Contact: Alan Pearson 301-851-3944

EIS No. 20190126, Final, BR, CA, Yolo Bypass Salmonid Habitat Restoration and Fish Passage, Review Period Ends: 07/08/2019, Contact: Ben Nelson 916-414-2424

Amended Notice

EIS No. 20190081, Draft, USACE, IL, Draft Chicago Area Waterway System Dredged Material Management Plan, Comment Period Ends: 07/02/2019, Contact: Mike Padilla 312-846-5427, Revision to FR Notice Published 05/03/2019; Extending the Comment Period from 06/17/2019 to 07/02/2019

EIS No. 20190092, Final Supplement, USACE, AL, Mobile Harbor, Mobile, Alabama Integrated Final General Evaluation Report with Supplemental Environmental Impact Statement, Review Period Ends: 06/17/2019, Contact: Jennifer L. Jacobson 251-690-2724, Revision to FR Notice Published 05/10/2019; Extending the Comment Period from 06/10/2019 to 06/17/2019

EIS No. 20190101, Draft, BLM, NV, Mackay Optimization Project, Comment Period Ends: 07/05/2019, Contact: Jeanette Black, EIS Project Manager 775-623-1500, Revision to FR Notice Published 05/17/2019; Extending the Comment Period from 07/01/2019 to 07/05/2019

Dated: June 4, 2019.
Candi Schaedle,
Acting Director, Office of Federal Activities.

[FR Doc. 2019-12032 Filed 6-6-19; 8:45 am]

BILLING CODE 6560-50-P